ENVIRONMENTAL PROTECTION AGENCY

[FRL-7816-4]

Protection of Stratospheric Ozone: Letter of Clarification on Request for Information on Existing and Available Stocks of Methyl Bromide

AGENCY: Environmental Protection Agency (EPA).

ACTION: Notice of availability of letter of clarification and extension of deadline.

SUMMARY: With this notice, EPA is informing individuals or legal entities that produce, import, distribute, sell, apply, or buy methyl bromide of a letter available on EPA's Web site at http://www.epa.gov/ozone/mbr that clarifies that nature and scope of information sought by the Agency in the Section 114 Information Request published in the Federal Register on August 25, 2004 (69 FR 52403). As a result of the clarifications provided by the Agency, EPA has agreed to extend the deadline for submission of the required data to October 14, 2004.

The request is for information on the amount of methyl bromide material held in inventory for sale or transfer. EPA needs this information to promulgate a rule to allow for the continued production, consumption, and use of methyl bromide for proposed critical uses exempted from the January 1, 2005 phaseout of methyl bromide. This exemption for critical uses is allowed under section 604 of the Clean Air Act ( CAA) and the Montreal Protocol on Substances that Deplete the Ozone Layer (“Montreal Protocol”).

DATES: The deadline for submission of the required data is October 14, 2004.

FOR FURTHER INFORMATION CONTACT: For further information about this information request, contact Hodayah Finman by telephone at (202) 343-9246, or by e-mail at finman.hodayah@epa.gov, or by mail at Hodayah Finman, U.S. Environmental Protection Agency, Stratospheric Protection Division, Stratospheric Program Implementation Branch (6205J), 1200 Pennsylvania Avenue, NW., Washington, DC, 20460. Overnight or courier deliveries should be sent to 1310 L Street, NW., Washington, DC, 20005, Attn: Hodayah Finman at 343-9410. You may also visit the Methyl Bromide Phaseout web site of EPA's Stratospheric Protection Division at http://www.epa.gov/ozone/mbr for further information about this request for information.

Dated: September 14, 2004.
Drusilla Hufford,
Director, Stratospheric Protection Division.

[FR Doc. 04-21188 Filed 9-21-04; 8:45 am]

BILLING CODE 6560-50-P